DEPARTMENT OF TRANSPORTATION

Federal Highway Administration

Notice To Rescind Five Notices of Intent to Prepare Environmental Impact Statements in Virginia

AGENCY: Federal Highway Administration (FHWA), DOT.

ACTION: Notice to rescind Notices of Intent to Prepare Environmental Impact Statements.

SUMMARY: The Federal Highway Administration (FHWA) is issuing this notice to advise the public that FHWA is rescinding the Notice of Intent to prepare an Environmental Impact Statement for the following five proposals: (1) Outer Connector in Stafford and Spotsylvania Counties; (2) I-77/I-81 Improvement Project in Wythe County; (3) Interstate 66 Multimodal Transportation and Environmental Study in Fairfax and Prince William Counties; (4) Route 29 South Bypass Improvement Project near Lynchburg; and (5) Spotsylvania Parkway in Spotsylvania County.

FOR FURTHER INFORMATION CONTACT: Ken Myers, Planning and Environmental Program Manager, Federal Highway Administration, 400 North 8th Street, Suite 750, Richmond, Virginia 23219-4825. Telephone: (804) 775-3353.

SUPPLEMENTARY INFORMATION: The FHWA is rescinding the Notice of Intent to prepare an Environmental Impact Statement for the following five proposals: (1) Outer Connector in Stafford and Spotsylvania Counties; (2) I-77/I-81 Improvement Project in Wythe County; (3) Interstate 66 Multimodal Transportation and Environmental Study in Fairfax and Prince William Counties; (4) Route 29 South Bypass Improvement Project near Lynchburg; and (5) Spotsylvania Parkway in Spotsylvania County. The corresponding Notice of Intent publication dates for each of the EISs are as follows: (1) June 1, 1995; (2) May 10, 2001; (3) January 11, 2002; (4) March 4, 2002; and (5) November 15, 2002.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: May 12, 2008.
Kenneth Myers,
Planning and Environmental Program Manager.

[FR Doc. E8-11452 Filed 5-21-08; 8:45 am]

BILLING CODE 4910-22-P